NATIONAL SCIENCE FOUNDATION

Advisory Committee for Geosciences; Notice of Meeting

In accordance with the Federal Advisory Committee Act (Pub. L. 92-463, as amended), the National Science Foundation announces the following meeting:

Name: Advisory Committee for Geosciences (1755).

DATES: October 21, 2015, 8:30 a.m.-5:00 p.m.; October 22, 2015, 8:30 a.m.-2:00 p.m.

Place: National Science Foundation, 4201Wilson Blvd., Stafford II, Room 555, Arlington, Virginia 22230.

Type of Meeting: Open.

Contact Person: Melissa Lane, National Science Foundation, Suite 705, 4201 Wilson Blvd., Arlington, Virginia 22230. Phone 703-292-8500.

Minutes: May be obtained from the contact person listed above.

Purpose of Meeting: To provide advice, recommendations, and oversight on support for geoscience research and education including atmospheric, geo-space, earth, ocean and polar sciences.

Agenda

Wednesday, October 21, 2015; 8:30 a.m.-5:00 p.m.

Directorate and NSF activities and plans

Review of 2015 COV Reports

Meeting with the Director of the Office of Legislative and Public Affairs

Update on I-USE and INCLUDES

Thursday, October 22, 2015; 8:30 a.m.-2:00 p.m.

Meeting with the NSF Director and CIO

Division Subcommittee Meetings

Action Items/Planning for Fall Meeting

Dated: August 31, 2015.
Crystal Robinson,
Committee Management Officer.

[FR Doc. 2015-21926 Filed 9-2-15; 8:45 am]

BILLING CODE 7555-01-P